DEPARTMENT OF THE TREASURY

Internal Revenue Service

Tax Counseling for the Elderly Program Availability of Application Packages

AGENCY: Internal Revenue Service (IRS), Treasury.

ACTION: Notice.

SUMMARY: This document provides notice of the availability of Application Packages for the 2015 Tax Counseling for the Elderly (TCE) Program.

DATES: Application instructions are available electronically from the IRS on May 1, 2014 by visiting: IRS.gov (key word search—“TCE”) or through Grants.gov. The deadline for submitting an application package to the IRS for the Tax Counseling for the Elderly (TCE) Program is May 31, 2014. However, because this date falls on a non-workday the deadline is being extended until Monday, June 2, 2014. All applications must be submitted through Grants.gov.

ADDRESSES: Internal Revenue Service, Grant Program Office, 5000 Ellin Road, NCFB C4-110, SE:W:CAR:SPEC:FO:GPO, Lanham, Maryland 20706,

FOR FURTHER INFORMATION CONTACT: Grant Program Office via their email address at tce.grant.office@irs.gov.

SUPPLEMENTARY INFORMATION: Authority for the Tax Counseling for the Elderly (TCE) Program is contained in Section 163 of the Revenue Act of 1978, Public Law 95-600, (92 Stat. 12810), November 6, 1978. Regulations were published in the Federal Register at 44 FR 72113 on December 13, 1979. Section 163 gives the IRS authority to enter into cooperative agreements with private or public non-profit agencies or organizations to establish a network of trained volunteers to provide free tax information and return preparation assistance to elderly individuals. Elderly individuals are defined as individuals age 60 and over at the close of their taxable year. Because applications are being solicited before the FY 2015 budget has been approved, cooperative agreements will be entered into subject to the appropriation of funds.

Dated: March 5, 2014.
Carol Quiller,
Acting Chief, Grant Program Office, IRS, Stakeholder Partnerships, Education & Communication.

[FR Doc. 2014-05563 Filed 3-13-14; 8:45 am]

BILLING CODE 4830-01-P